DEPARTMENT OF AGRICULTURE

Animal and Plant Health Inspection Service

9 CFR Part 93

[Docket No. APHIS-2008-0112]

RIN 0579-AD31

Importation of Horses From Contagious Equine Metritis-Affected Countries

AGENCY: Animal and Plant Health Inspection Service, USDA.

ACTION: Interim rule; delay of enforcement.

SUMMARY: On March 25, 2011, we published an interim rule in the Federal Register to amend the regulations regarding the importation of horses from countries affected with contagious equine metritis (CEM) by incorporating an additional certification requirement for imported horses 731 days of age or less and adding new testing protocols for test mares and imported stallions and mares more than 731 days of age. That interim rule became effective on March 25, 2011; however, we are delaying the enforcement of the interim rule until July 25, 2011. This action is necessary to provide CEM testing facilities time to make adjustments to their operating procedures that are necessary for the rule to be successfully implemented.

DATES: Enforcement of the interim rule amending 9 CFR part 93, published at 76 FR 16683-16686 on March 25, 2011, is delayed until July 25, 2011.

FOR FURTHER INFORMATION CONTACT: Dr. Ellen Buck, Senior Staff Veterinarian, Equine Imports, National Center for Import and Export, VS, APHIS, 4700 River Road Unit 36, Riverdale, MD 20737-1231; (301) 734-8364.

SUPPLEMENTARY INFORMATION:

Background

The regulations in 9 CFR part 93 (referred to below as the regulations) prohibit or restrict the importation of certain animals into the United States to prevent the introduction of communicable diseases of livestock and poultry. “Subpart C—Horses,” §§ 93.300 through 93.326, pertains to the importation of horses into the United States. Sections 93.301 and 93.304 of the regulations contain specific provisions for the importation of horses from regions affected with contagious equine metritis (CEM), which is a highly contagious venereal disease of horses and other equines caused by an infection with the bacterium Taylorella equigenitalis.

On March 25, 2011, we published an interim rule in the Federal Register (76 FR 16683-16686, Docket No. APHIS-2008-0112) to amend the regulations regarding the importation of horses from countries affected with CEM by incorporating an additional certification requirement for imported horses 731 days of age or less and adding new testing protocols for test mares and imported stallions and mares more than 731 days of age. The provisions of the interim rule became effective March 25, 2011, and we will consider all comments on the interim rule received on or before May 24, 2011.

Delay of Enforcement

After the publication of the interim rule, we received comments that raised a variety of issues, including the feasibility of immediately implementing certain requirements.

Based on our review of the comments received to date, we consider it advisable to delay our enforcement of the interim rule until July 25, 2011. This additional time will allow CEM testing facilities to make any adjustments to their operating procedures that may be necessary in order to successfully implement the interim rule.

Accordingly, we are delaying enforcement of the interim rule amending 9 CFR part 93, published at 76 FR 16683-16686 on March 25, 2011, until July 25, 2011.

Authority: 7 U.S.C. 1622 and 8301-8317; 21 U.S.C. 136 and 136a; 31 U.S.C. 9701; 7 CFR 2.22, 2.80, and 371.4.

Done in Washington, DC, this 25th day of May 2011.
Kevin Shea,
Acting Administrator, Animal and Plant Health Inspection Service.

[FR Doc. 2011-13360 Filed 5-27-11; 8:45 am]

BILLING CODE 3410-34-P